DEPARTMENT OF THE INTERIOR

National Park Service

National Register of Historic Places; Notification of Pending Nominations and Related Actions

Nominations for the following properties being considered for listing or related actions in the National Register were received by the National Park Service before September 6, 2008.

Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by October 7, 2008.

J. Paul Loether,
Chief, National Register of Historic Places/National, Historic Landmarks Program.

COLORADO

San Juan County

Tobasco Mine and Mill, (Hinsdale County Metal Mining MPS) S. of San Juan Co. Rd. 5 and Hinsdale Co. Rd. 34, Lake City, 08000983

Hinsdale County

Tobasco Mine and Mill, (Hinsdale County Metal Mining MPS) S. of San Juan Co. Rd. 5 and Hinsdale Co. Rd. 34, Lake City, 08000983

KANSAS

Marshall County

Waterville Opera House, (Theaters and Opera Houses of Kansas MPS) 200 E. Front St., Waterville, 08000984

McPherson County

Farmers State Bank, 101 S. Main, Lindsborg, 08000985

Ness County

Lion Block, 216 West Main, Ness City, 08000986

Shawnee County

St. John African Methodist Episcopal Church, 701 SW Topeka Blvd., Topeka, 08000987

Wyandotte County

Northeast Junior High School, (Public Schools of Kansas MPS) 400 Troup Ave., Kansas City, 08000988

LOUISIANA

Orleans Parish

Blue Plate Building, 1315 S. Jefferson Davis Pkwy., New Orleans, 08000989

Tivoli Theatre, 3933 Washington Ave., New Orleans, 08000990

MAINE

Hancock County

Sea Change, 27 Corning Way, Northeast Harbor, 08000991

Surry Town Hall, 1217 Surry Rd., Surry, 08000993

Oxford County

Soldiers Memorial Library, (Maine Public Libraries MPS) 85 Main St., Hiram, 08000992

NORTH DAKOTA

Griggs County

Oscar-Zero Missile Alert Facility, St. Hwy. 45, Cooperstown, 08000994

OHIO

Franklin County

Temperance Row Historic District, Vicinity of Park, Grove, Walnut and University Sts., Westerville, 08000995

UTAH

Utah County

Fisher, Albert, Mansion and Carriage House, 1206 W. 200 S., Salt Lake City, 08000996

VERMONT

Chittenden County

House at 44 Front Street, (Burlington, Vermont MPS) 42-44 Front St., Burlington, 08000997

WASHINGTON

King County

Messenger of Peace Chapel Car, 38625 SE. King St., Snoqualmie, 08000998

Walla Walla County

Battle of Walla Walla—Frenchtown, Hwy. 12, Mile post 328, Lowden, 08000999

WISCONSIN

Columbia County

Byrns, Daniel and Nellie, House, 221 Mill St., Lodi, 08001000

Pruyn, Joel M., Block, 146 S. Main St., Lodi, 08001001

WYOMING

Campbell County

Gillette Post Office, (Historic U.S. Post Offices in Wyoming, 1900-1941, TR) 301 S. Gillette Ave., Gillette, 08001002

Converse County

Hotel LaBonte, 206 Walnut St., Douglas, 08001003

Natrona County

Grant Street Grocery and Market, 815 S. Grant St., Casper, 08001005

Platte County

Platte County Courthouse, 800 9th St., Wheatland, 08001004

[FR Doc. E8-22074 Filed 9-19-08; 8:45 am]

BILLING CODE 4310-70-P